COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add services to the Procurement List that will be provided by nonprofit agencies employing persons who are blind or have other severe disabilities.

DATES: Comments must be received on or before: 9/17/2012.

ADDRESSES: Committee for Purchase From People Who Are Blind or Severely Disabled, Jefferson Plaza 2, Suite 10800, 1421 Jefferson Davis Highway, Arlington, Virginia 22202-3259.

For Further Information or to Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will provide the services to the Government.

2. If approved, the action will result in authorizing small entities to provide the services to the Government.

3. There are no known regulatory alternatives which would accomplish the objectives of the Javits-Wagner-O'Day Act (41 U.S.C. 8501-8506) in connection with the services proposed for addition to the Procurement List.

Comments on this certification are invited. Commenters should identify the statement(s) underlying the certification on which they are providing additional information.

End of Certification

The following services are proposed for addition to the Procurement List for production by the nonprofit agencies listed:

Services

Service Type/Location: Custodial Service, Customs and Border Protection, Port Angeles Station, 110 South Penn St., Port Angeles, WA

NPA: Morningside, Olympia, WA

Contracting Activity: Dept. of Homeland Security, U.S. Customs and Border Protection, Procurement Directorate, Washington, DC

Service Type/Location: Custodial and Grounds Maintenance Services, Austin Courthouse, 501 West 5th Street, Austin, TX

NPA: Crossroads Diversified Service, Inc., Sacramento, CA

Contracting Activity: General Services Administration, Public Buildings Service, Building Services Team, Fort Worth, TX

Service Type/Locations: Custodial and Grounds Maintenance Services, Border Patrol Sector HDQ, 3819 Patterson Road, New Orleans, LA

Federal Supply Service (FSS) Depot, 400 Edwards Avenue, Harahan, LA

NPA: Louisiana Industries for the Disabled, Inc., Baton Rouge, LA

Contracting Activity: General Services Administration, Public Buildings Service, Building Services Team, Fort Worth, TX

Service Type/Location: Base Operations Support Services, Department of Public Works (DPW), 453 Novosel Street, Fort Rucker, AL

NPA: PRIDE Industries, Roseville, CA

Contracting Activity: Dept. of the Army, W6QM MICC-Ft. Rucker, Fort Rucker, AL

Barry S. Lineback,
Director, Business Operations.

[FR Doc. 2012-20253 Filed 8-16-12; 8:45 am]

BILLING CODE 6353-01-P